DEPARTMENT OF TRANSPORTATION

Federal Aviation Administration

14 CFR Part 71

Federal Aviation Administration Flight Information Services (FIS) Policy Statement

AGENCY: Federal Aviation Administration (FAA), Department of Transportation (DOT).

ACTION: Notice of policy statement; request for comment.

SUMMARY: This statement summarizes the major changes and the implications of publishing the revised policy, and background on the need for a revised policy.

The revised FIS Policy updates the existing 1998 FAA Airborne FIS Policy to reflect the current FIS data link status and provides the basis for transition from the current (FAA) industry Flight Information Services Data Link (FISDL) service to the planned evolution of an FAA FIS data link service using National Airspace System (NAS) technologies such as the Universal Access Transceiver (UAT) and/or Next Generation Air-Ground Communication (NEXCOM). During the transition, the revised FIS Policy supports continuation of the FISDL service by temporarily extending the current use of VHF channels through FAA-industry agreement.

In 1998 the FAA Administrator published the current Airborne Flight Information Services Policy Statement (see attachment). That policy provided the basis for implementing the existing FISDL service through FAA-industry agreement. Under the agreement, FAA provides two VHF frequencies and management oversight while industry (Honeywell) provides the FISDL network and cockpit products. In 2002 the FAA published the Automatic Dependent Surveillance-Broadcast (ADS-B) Link Decision which includes providing FIS-B services via the UAT network. The Safe Flight 21 program is developing the ADS-B technology and has intalled a “pocket” UAT network along the East Coast.

The major purpose for publishing the revised FIS Policy is to establish a strategy for transitioning from the existing industry-government FIS data link service to one or more FAA-only FIS data link services. The existing industry-government service, called FIS Data Link (FISDL), is owned and operated by Honeywell Inc. The replacement FAA-only system(s) will be the Universal Access Transceiver (UAT) and/or NEXCOM. During the transition to an FAA FIS data link service, the FAA will provide temporary extension of two VHF channels for continuation of the FISDL service.

DATES: Comments must be received by June 30, 2005.

ADDRESSES: Send all comments on the proposed policy to the individual identified under FOR FURTHER INFORMATION CONTACT.

FOR FURTHER INFORMATION CONTACT: Sandra Schmidt, Weather Policy and Standards, Federal Aviation Administration, 800 Independence Ave., SW., Washington, DC 20591; telephone number (202) 385-7709; Fax: (202) 385-7701; e-mail: Sandra.Schmidt@faa.gov. Internet address: http://www.Sandra.Schmidt@faa.gov.

SUPPLEMENTARY INFORMATION:

Comments Invited

The FAA invites interested parties to comment on the proposed policies. Comments should identify the subject of the proposed policy and be submitted to the individual identified under the FOR FURTHER INFORMATION CONTACT. The FAA will consider all comments received by the closing date before issuing the final policies.

Background

After the cancellation of the Mode S Data Link Processor in the mid-1990's, the FAA had no definite plans for providing FIS data link services. Industry providers and users urged the FAA to work with industry to facilitate early implementation of FIS data link services. As a result, in May 1998 the FAA published the current FISDL policy. It provided the basis for implementing the existing FIS Data Link (FISDL) service through a Government-Industry Project Performance Agreement (G-IPPA) with Honeywell.

In July 2002, the FAA issued the ADS-B Link Decision that included FIS broadcast (FIS-B) as a NAS service using the Universal Access Transceiver (UAT) technology. In 2004, the FAA Safe Flight 21 program began installing a UAT network “pocket” along the East Coast that includes initial FIS-B services.

The basic national FISDL network was completed during 2004. Also, the G-IPPA between the FAA and Honeywell has been extended to provide continuity of service during the development of the strategy for transition to an FAA FIS-B service. The revision to the FIS Policy establishes the provisions for further extending the FISDL service and aligns the FIS Policy with the ADS-B Link Decision.

Airborne Flight Information Services Policy

This policy statement replaces the Administrator's Airborne Flight Information Services (FIS) Policy Statement, dated May 1, 1998, and affirms FAA's objective to encourage the evolution of FIS data link services.

FIS is defined as the non-control, advisory information needed by pilots to operate more safely and efficiently within the National Airspace System (NAS). FIS includes weather and airspace status information applicable for preflight planning and en route decision-making. The FAA seeks to use digital data link technology to provide FIS information in a timely manner directly to the pilot, thereby enhancing flight safety and efficiency as well as increasing the general utility, efficiency, and capacity of the NAS. The timely provision of current and consistent FIS information is essential to support sound operational decisions by all NAS users.

FIS product for delivery to the cockpit include text and/or graphic presentations of information on the status of the NAS (e.g., Notices to Airmen, Temporary Flight Restrictions, Special Use Airspace) and meteorological information. This policy supports the inherent efficiency of providing FIS through automated data communications to complement voice communications.

The FAA policy is to promote all modes of FIS delivery appropriate for aviation use whether provided commercially or over the evolving FAA data link communications. This policy is consistent with FAA's Automatic Dependent Surveillance-Broadcast (ADS-B) Data Link Decision of July 1, 2002. Under the ADS-B Link Decision, the FAA chose to provide future FIS-Broadcast (FIS-B) services through the Universal Access Transceiver (UAT) 978MHz network; additional details are available at the FAA Web site (http://www.faa.gov/asd/ads-b/). Any transition to the UAT network will include an orderly phase-out of the existing Government-Industry Project Performance Agreement (G-IPPA) that set aside segments of the VHF spectrum for the broadcast of FIS. The FAA intends to temporarily extend the current VHF channels for FIS data link (FISDL) use during transition to a national UAT on 978 MHz and/or Next Generation Air/Ground Communications (NEXCOM) based FIS data link service. The current VHF spectrum supporting FISDL is required for future airspace redesign requirements. Avionics based on the current VHF channels supporting FISDL will no longer receive FIS data when the VHF spectrum supporting this data link is no longer available.

FAA encourages public and private collaboration to provide users with new and affordable FIS products; and to offer opportunities for industry to participate in FIS product development, production and dissemination. The FAA also supports the evolution and use of private sector FIS data link capabilities using alternative media, such as satellite broadcast.

The FAA recognizes that effective pilot training is a critical element in the responsible use of FIS data link services. When used responsibly, FIS information can materially enhance a pilot's overall situational awareness and thus contribute to enhanced pilot judgment and better pilot decision-making. To ensure the maximum benefits from FIS data link services, the FAA encourages manufacturers to develop, and users (e.g., pilots and operators) to make use of appropriate training materials.

Under the framework provided by this policy statement, the roles and responsibilities of the government, industry, and the users are as follows:

Government

• Plans to develop and deploy an FAA FIS data link service using evolving NAS technologies, such as UAT and NEXCOM.

• Will temporarily extend the current use of VHF channels for FIS data link service through the existing government-industry agreement until transition to the above FAA service.

• Will work with other Government agencies, users, and industry to develop guidelines and standards for the display and training associated with the use of FIS products in the cockpit.

• Will make appropriate NAS status and Federal meteorological data accessible to aeronautical users and service providers.

• May acquire commercially developed and produced FIS products.

• Will lead and coordinate the establishment of certification and operational approval criteria, and national and international standards for delivery of FIS via data link; thereby promoting interoperability between various FIS providers, products and equipment suites.

Industry

• Will manufacture avionics for the processing and display of FIS products in the cockpit.

• May develop FIS products and/or deploy commercial networks for delivery of FIS data link services.

• Will develop pilot education and training materials and encourage their use, as well as assist the FAA in the publication of appropriate directives.

Users

• Will select their preferred FIS data link service from FAA and/or the marketplace, and will acquire the appropriate data link equipment.

• Will complete appropriate training and use FIS data link equipment and products in a responsible manner as described in FAA and industry publications.

Issued in Washington, DC, on May 31, 2005.
Richard J. Heuwinkel,
Manager, Weather Policy and Standards.

[FR Doc. 05-11670 Filed 6-13-05; 8:45 am]

BILLING CODE 4910-13-M